FEDERAL COMMUNICATIONS COMMISSION

47 CFR Parts 1, 11, 21, 25, 73, 74, 76, and 100

[CS Docket No. 98-132; FCC 99-12]

1998 Biennial Review—Multichannel Video and Cable Television Service

AGENCY: Federal Communications Commission.

ACTION: Interim rule and final rule.

SUMMARY: In this document we revise and streamline the public file and notice requirements set forth in the Commission's cable television rules. The rules reduce the regulatory burden faced by cable operators with regard to public file requirements by: reorganizing the public file requirements; providing cable operators with an alternative to maintaining a paper public file; eliminating outdated public file requirements; and, expanding the definition of small cable systems for purposes of the public inspection rules. Further, in this document we are adopting as an interim rule the section of the Commission's rules which expands the definition of small cable systems for purposes of public inspection to include a limited exemption for cable operators with 1000 or more subscribers, but fewer than 5000 subscribers.

DATES: Effective October 5, 2000, except for §§ 76.1622, 76.1626, 76.1713, and 76.1800 which contain information collection requirements that are not effective until approved by the Office of Management and Budget. The FCC will publish a document in the Federal Register announcing the effective date for those sections. Written comments by the public on the new or modified information collection requirements should be submitted on or before November 6, 2000.

Comments on the interim rule, § 76.1700(a), are due September 26, 2000. Reply comments are due October 6, 2000.

ADDRESSES: Comments on the interim rule should be filed with the Federal Communications Commission, Office of the Secretary, 445 12th Street, S.W., Room TW-A325, Washington, D.C. 20554. Comments may also be filed using the Commission's Electronic Comment Filing System (ECFS). See Electronic Filing of Documents in Rulemaking Proceedings, 63 FR 24121 (January 2, 1998). Comments filed through the ECFS can be sent as an electronic file via the Internet to http://www.fcc.gov/e-file/ecfs.html. Generally, only one copy of an electronic submission must be filed. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>”. A sample form and directions will be sent in reply.

FOR FURTHER INFORMATION CONTACT: Carolyn A. Fleming, Cable Services Bureau, (202) 418-1026 or via Internet at cfleming@fcc.gov. For additional information concerning the information collection requirements contained herein, contact Judy Boley at 202-418-0214, or via the Internet at jboley @ fcc.gov.

SUPPLEMENTARY INFORMATION 1. The Report and Order, CS Docket No. 98-132; FCC 99-12, released March 26, 1999, addresses the issues raised in the Notice of Proposed Rulemaking in CS Docket No. 98-132, 13 FCC Rcd 15219 (1998) (“NPRM”), ¹ regarding the Commission's 1998 biennial regulatory review of its regulations conducted pursuant to Section 11 of the Telecommunications Act of 1996. In the NPRM, the Commission sought comments and proposals on how to streamline and reorganize part 76 public file and notice requirements. The Cable Telecommunications Association (“CATA”) filed a suggested Notice of Proposed Rulemaking (“CATA Notice”) in which it makes particular recommendations regarding changes to the public file requirements. The Commission placed the CATA Notice in the record of this proceeding in order to solicit comment on CATA's specific recommendations.

¹ The NPRM was not published in the Federal Register.

2. Discussion. The Report and Order implements rule changes designed to reorganize, consolidate, and modify the public file and notice requirements set forth in part 76. Specifically, the Report and Order reorganizes public file requirements into three new subparts, subparts T, U, and V. Subpart T contains notice requirements, subpart U contains recordkeeping requirements, and subpart V contains reporting and filing requirements. In some cases, existing notice requirements, such as the notice requirements for cable inside wiring, need to remain in their current sections. The subparts T, U, and V reference cable operator notice, filing, and recordkeeping requirements even if the actual rule is contained elsewhere. Where certain rules require notice to be provided at different at different times, e.g., annually, at the time of installation, and at any time upon request, the new rules make reference to the notice requirement in subsections of subpart T in which the notice requirement applies. In addition, the new subparts cross-reference additional, non-part 76 notice requirements such as the semi-annual copyright filing requirements contained in 17 U.S.C. 111(D)(1) and the cable subscriber privacy notice requirements found in 47 U.S.C. 551(a)(1).

3. The Report and Order also provides cable operators with an alternative to maintaining a paper public file. Many cable operators have their own World Wide Web home pages on the Internet and providing electronic access to public file information increases the number of locations from which this information may be obtained by providing access from homes, schools, and libraries. The Report and Order requires cable operators to provide a computer terminal for public use and to make paper copies available upon request.

4. The Report and Order eliminates certain outdated public file requirements. For instance, § 76.900 which contained rate regulation freeze requirements which expired on May 15, 1994. The Commission determined that that rule and similar rules no longer have any operational consequence. Section 76.58, which required cable operators to provide certain notifications to local broadcast stations by May 3, 1993 and June 2, 1993, has been modified to require cable operators to provide local broadcast station notifications within 60 days after a new cable system is activated.

5. The Report and Order expands the definition of small cable systems for purposes of the public inspection file. An exemption from the recordkeeping requirements has been created for cable systems serving 1000 or more subscribers but fewer than 5000 subscribers. Those systems are permitted to respond to specific and individual requests for public file information instead of maintaining a general paper file containing all information required by part 76.

Paperwork Reduction Act

This Report and Order has been analyzed with respect to the Paperwork Reduction Act of 1995 (the “1995 Act”) and found to impose new or modified information collection requirements on the public. The Commission, as part of its continuing effort to reduce paperwork burdens, invites the general public to take this opportunity to comment on the information collection requirements contained in this Report and Order, as required by the 1995 Act. Public comments are due 60 days after date of publication in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Approval Number: 3060-XXXX (new collection).

Title: Part 76 Multichannel Video and Cable Television Service Public File and Notice Rules.

Type of Review: New collection.

Respondents: Businesses or other for-profit entities.

Number of Respondents: 10,800.

Estimated Time Per Response: 30 minutes to 3 hours.

Frequency of Response: Subscriber privacy notice requirement: as needed, and Copyright Act statement of accounting filing requirement: semi-annually.

Total Burden to Respondents: 43,200 hours.

Total Cost to Respondents: $43,200.

Needs and Uses: Section 631 of the Communications Act as amended, 47 U.S.C. 551, provides that at the time of entering into an agreement to provide any cable service or other service to a subscriber and at least once a year thereafter, a cable operator shall provide notice in the form of a separate, written statement to such subscriber which clearly and conspicuously informs the subscriber of (a) the nature of personally identifiable information collected or to be collected with respect to the subscriber and the nature of the use of such information; (b) the nature, frequency, and purpose of any disclosure which may be made of such information, including an identification of the types of persons to whom the disclosure may be made; (c) the period during which such information will be maintained by the cable operator; (d) the times and place at which the subscriber may have access to such information in accordance with Section 631(d), the limitations provided by Section 631 with respect to the collection and disclosure of information by a cable operator and the right of the subscriber under Sections 631(f) and (h) to enforce such limitations. This notice requirement appears in the Communications Act but not in the Commission's cable television rules. The Report and Order amends the Commission's cable television rules so that the notice requirement is now referenced in notes at the end of various new rule sections.

In addition, the Copyright Act, 17 U.S.C. 111(d)(1), requires that cable operators file, on a semi-annual basis, a statement of account with the Licensing Division of the Copyright Office, Library of Congress. The Report and Order amends the Commission's cable television rules do that this filing is now referenced in a note at the end of new § 76.1800.

Final Regulatory Flexibility Analysis

6. As required by the Regulatory Flexibility Act (RFA), an Initial Regulatory Flexibility Analysis (“IRFA”) was incorporated into the Notice of Proposed Rule Making (“NPRM”) in this proceeding. The Commission sought written public comment on the possible impact of the proposed policies and rules on small entities in the NPRM including comments on the IRFA. This Final Regulatory Flexibility Analysis (”FRFA”) in this Report and Order conforms to the RFA.

7. Need for Action and Objectives of the Rules. Section 11 of the 1996 Telecommunications Act requires the Commission to conduct a biennial review of regulations that apply to operations and activities of any provider of telecommunications service and to repeal or modify any regulation it determines to be no longer in the public interest. Although Section 11 does not specifically refer to cable operators, the Commission has determined that the first biennial review presents an excellent opportunity for a thorough examination of all of the Commission's regulations.

8. Summary of Significant Issues Raised by the Public Comment in Response to the IRFA. No comments were filed specifically in response to the IRFA.

9. Description and Estimate of the Number of Small entities to Which the Rules Will Apply. The IRFA directs the Commission to provide a description of and, where feasible, an estimate of the number of small entities that might be affected by the rules here adopted. The RFA defines the term “small entity” as having the same meaning as the terms “small business,” “small organization,” and “small governmental jurisdiction.” In addition, the term “small business” has the same meaning as the term “small business concern” under the “Small Business Act.” Under the Small Business Act, a small business concern is one which: (a) is independently owned and operated; (b) is not dominant in its field of operation; and (c) satisfies any additional criteria established by the Small Business Administration. The rules we adopt in this Report and Order will affect cable systems, multipoint multichannel distribution systems, direct broadcast satellites, home satellite dish manufacturers, open video systems, satellite master antenna television, local multipoint distribution systems, program producers and distributors, and television stations. Below we set forth the general SBA and Commission cable small size standards, and then address each service individually to provide a more precise estimate of small entities. We also describe program producers and distributors.

10. SBA Definitions for Cable and Other Pay Television Services: The SBA has developed a definition of small entities for cable and other pay television services, which includes all such companies generating $11 million or less in annual receipts. This definition includes cable system operators, closed circuit television services, direct broadcast satellite services, multipoint distribution systems, satellite master antenna systems and subscription television services. According to the Census Bureau data from 1992, there were approximately 1,758 total cable and other pay television services and 1,423 had less than $11 million in revenue.

11. Additional Cable System Definitions: In addition, the Commission has developed, with SBA's approval, our own definition of a small cable system operator for the purposes of rate regulation. Under the Commission's rules, a “small cable company” is one serving no more than 400,000 subscribers nationwide. Based on recent information, we estimate that there were 1439 cable operators that qualified as small cable companies at the end of 1995. Since then, some of those companies may have grown to serve over 400,000 subscribers, and others may have been involved in transactions that caused them to be combined with other cable operators. Consequently, we estimate that there are fewer than 1439 small entity cable system operators that may be affected by the decisions and rules we are adopting. We conclude that only a small percentage of these entities currently provide qualifying “telecommunications services” as required by the Communications Act and, therefore, estimate that the number of such entities are significantly fewer than noted.

12. The Communications Act also contains a definition of a small cable system operator, which is “a cable operator that, directly or through an affiliate, serves in the aggregate fewer than 1% of all subscribers in the United States and is not affiliated with any entity or entities whose gross annual revenues in the aggregate exceed $250,000,000.” The Commission has determined that there are 61,700,000 cable subscribers in the United States. Therefore, we found that an operator serving fewer than 617,000 subscribers shall be deemed a small operator, if its annual revenues, when combined with the total annual revenues of all of its affiliates, do not exceed $250 million in the aggregate. Based on available data, we find that the number of cable operators serving 617,000 subscribers or less totals 1450. Although it seems certain that some of these cable system operators are affiliated with entities whose gross annual revenues exceed $250,000,000, we are unable at this time to estimate with greater precision the number of cable system operators that would qualify as small cable operators under the definition in the Communications Act.

13. Multipoint Multichannel Distribution Systems (“MMDS”): The Commission refined its definition of “small entity” for the auction of MMDS as an entity that together with its affiliates has average gross annual revenues that are not more than $40 million for the preceding three calendar years. This definition of a small entity in the context of MMDS auctions has been approved by the SBA.

14. The Commission completed its MMDS auction in March 1996 for authorizations in 493 basic trading areas (“BTAs”). Of 67 winning bidders, 61 qualified as small entities. Five bidders indicated that they were minority-owned and four winners indicated that they were women-owned businesses. MMDS is an especially competitive service, with approximately 1573 previously authorized and proposed MMDS facilities. Information available to us indicates that no MMDS facility generates revenue in excess of $11 million annually. We conclude that, for purposes of this FRFA, there are approximately 1634 small MMDS providers as defined by the SBA and the Commission's auction rules.

15. Direct Broadcast Satellite (“DBS”): Because DBS provides subscription services, DBS falls within the SBA definition of cable and other pay television services (SIC 4841). As of December 1996, there were eight DBS licensees. In the NPRM we concluded that no DBS operator qualifies as a small entity. Since the publication of the NPRM, more information has become available. In light of the 1997 gross revenue figures for the various DBS operators, we restate our conclusion that no DBS operator qualifies as a small entity.

16. Home Satellite Dish (“HSD”): The market for HSD service is difficult to quantify. Indeed, the service itself bears little resemblance to other MVPDs. HSD owners have access to more than 500 channels of programming placed on C-band satellites by programmers for receipt and distribution by MVPDs, of which 350 channels are scrambled and approximately 150 are unscrambled. HSD owners can watch unscrambled channels without paying a subscription fee. To receive scrambled channels, however, an HSD owner must purchase an integrated receiver-decoder from an equipment dealer and pay a subscription fee to an HSD programming packager. Thus, HSD users include: (1) Viewers who subscribe to a packaged programming service, which affords them access to most of the same programming provided to subscribers of other MVPDs; (2) viewers who receive only non-subscription programming; and (3) viewers who receive satellite programming services illegally without subscribing.

17. According to the most recently available information, there are approximately 20 to 25 program packagers nationwide offering packages of scrambled programming to retail consumers. These program packagers provide subscriptions to approximately 2,184,470 subscribers nationwide. This is an average of about 77,163 subscribers per program packager. This is substantially smaller than the 400,000 subscribers used in the Commission's definition of a small multiple system operator (“MSO”).

18. Satellite Master Antenna Television (“SMATVs”): Industry sources estimate that approximately 5200 SMATV operators were providing service as of December 1995. Other estimates indicate that SMATV operators serve approximately 1.162 million residential subscribers as of June 30, 1997. The ten largest SMATV operators together pass 848,450 units. If we assume that these SMATV operators serve 50% of the units passed, the ten largest SMATV operators serve approximately 40% of the total number of SMATV subscribers. Because these operators are not rate regulated, they are not required to file financial data with the Commission. Furthermore, we are not aware of any privately published financial information regarding these operators. Based on the estimated number of operators and the estimated number of units served by the largest ten SMATVs, we conclude that a substantial number of SMATV operators qualify as small entities.

19. Local Multipoint Distribution System (“LMDS”): Unlike the above pay television services, LMDS technology and spectrum allocation will allow licensees to provide wireless telephony, data, and/or video services. A LMDS provider is not limited in the number of potential applications that will be available for this service. Therefore, the definition of a small LMDS entity may be applicable to both cable and other pay television (SIC 4841) and/or radiotelephone communications companies (SIC 4812). The SBA approved definition for cable and other pay services that qualify as a small business is defined in paragraphs 5-6, supra. A small radiotelephone entity is one with 1500 employees or fewer. However, for the purposes of this Report and Order, we include only an estimate of LMDS video service providers.

20. An auction for licenses to operate LMDS systems was recently completed by the Commission. The vast majority of the LMDS license auction winners were small businesses under the SBA's definition of cable and pay television (SIC 4841). The Commission adopted a small business definition for entities bidding for LMDS licenses as an entity that, together with affiliates and controlling principles, has average gross revenues not exceeding $40 million for each of the three preceding years. We have not yet received approval by the SBA for this definition.

21. There is only one company, CellularVision, that is currently providing LMDS video services. In the IRFA, we assumed that CellularVision was a small business under both the SBA definition and our auction rules. No commenters addressed the tentative conclusions we reached in the NPRM. Accordingly, we affirm our tentative conclusion that a majority of the potential LMDS licensees will be small entities, as that term is defined by the SBA.

22. Open Video System (“OVS”): As of the date of this Report and Order, the Commission has certified 23 OVS operators. To the best of our knowledge, there are 2 certified operators that are currently providing OVS service. Little financial information is available for entities authorized to provide OVS that are not operational. We believe that one OVS licensee may qualify as a small business concern. Given that other entities have been authorized to provide OVS service but have not yet begun to generate revenue, we conclude that at least some of the OVS operators qualify as small entities.

23. Program Producers and Distributors: The Commission has not developed a definition of small entities applicable to producers or distributors of television programs. Therefore, we will utilize the SBA classifications of Motion Picture and Videotape Production (SIC 7812), Motion Picture and Videotape Distribution (SIC 7822), and Theatrical Producers (Except Motion Pictures) and Miscellaneous Theatrical Services (SIC 7922). These SBA definitions provide that a small entity in the television programming industry is an entity with $21.5 million or less in annual receipts for SIC 7812 and 7822, and $5 million or less in annual receipts for SIC 7922. The 1992 Bureau of the Census data indicate the following: (1) There were 7265 U.S. firms classified as Motion Picture and Video Production (SIC 7812), and that 6987 of these firms had $16,999 million or less in annual receipts and 7002 of these firms had $24,999 million or less in annual receipts; (2) there were 1139 U.S. firms classified as Motion Picture and Tape Distribution (SIC 7822), and that 1007 of these firms had $16,999 million or less in annual receipts and 1013 of these firms had $24,999 million or less in annual receipts; and (3) there were 5671 U.S. firms classified as Theatrical Producers and Services (SIC 7922), and that 5627 of these firms had less than $5 million in annual receipts.

24. Each of these SIC categories is very broad and includes firms that may be engaged in various industries including television. Specific figures are not available as to how many of these firms exclusively produce and/or distribute programming for television or how many are independently owned and operated. Consequently, we conclude that there are approximately 6987 small entities that produce and distribute taped television programs, 1013 small entities primarily engaged in the distribution of taped television programs, and 5627 small producers of live television programs that may be affected by the rules adopted in this Report and Order.

25. Television Stations: The rules will apply to television broadcasting licensees, and potential licensees of television service. The Small Business Administration defines a television broadcasting station that has no more than $10.5 million in annual receipts as a small business. Television broadcasting stations consist of establishments primarily engaged in broadcasting visual programs by television to the public, except cable and other pay television services. Included in this industry are commercial, religious, educational, and other television stations. Also included are establishments primarily engaged in television broadcasting and which produce taped television program materials. Separate establishments primarily engaged in producing taped television program materials are classified under another SIC number. There were 1,509 television stations operating in the nation in 1992. That number has remained fairly constant as indicated by the approximately 1,579 operating full power television broadcasting stations in the nation as of May 31, 1998. In addition, as of October 31, 1997, there were 1,880 LPTV stations that may also be affected by our rules. For 1992, the number of television stations that produced less than $10.0 million in revenue was 1,155 establishments.

26. Thus, the rules will affect many of the approximately 1,579 television stations; approximately 1,200 of those stations are considered small businesses. These estimates may overstate the number of small entities since the revenue figures on which they are based do not include or aggregate revenues from non-television affiliated companies.

27. In addition to owners of operating television stations, any entity who seeks or desires to obtain a television broadcast license may be affected by the rules contained in this item. The number of entities that may seek to obtain a television broadcast license is unknown.

28. Description of Reporting, Recordkeeping and Other Compliance Requirements. This analysis examines the costs and administrative burdens associated with our rules and requirements. This Report and Order eliminates certain recordkeeping requirements and provides cable operators with the alternative option to provide public file information over the Internet. Thus, the Commission has reduced administrative burdens of the public file requirements.

29. Steps Taken To Minimize Significant Economic Impact On Small Entities and Significant Alternatives Considered. We believe that our rules, to reorganize, modify, and eliminate certain public file and notice requirements, make the amended part 76 public file rules easier to locate. Several rules have been modified for less burdensome compliance with the public file requirements. In addition, we have provided cable operators with the option of eliminating its paper file and providing public file information over the Internet.

30. It is ordered that, pursuant to authority found in Sections 4(i) through (j) of the Communications Act of 1934, as amended, 47 U.S.C. 154(i) through (j), the Commission's rules are hereby amended as set forth in the rule changes.

31. It is further ordered that the rules as amended shall become effective October 5, 2000, except §§ 76.1622, 76.1626, 76.1713, and 76.1800, which contain information collection requirements that are not effective until approved by the Office of Management and Budget. The FCC will publish a document in the Federal Register announcing the effective date for those sections.

32. It is further ordered that the Commission's Office of Public Affairs, Reference Operations Division, shall send a copy of this Report and Order, including the Final Regulatory Flexibility Analysis, to the Chief Counsel for Advocacy of the Small Business Administration.

List of Subjects

47 CFR Part 1

Practice and procedure.

47 CFR Part 11

Emergency alert system.

47 CFR Part 21

Domestic public fixed radio services.

47 CFR Part 25

Satellite communications.

47 CFR Part 73

Radio broadcast services.

47 CFR Part 74

Experimental radio, auxiliary, special broadcast and other program distributional services.

47 CFR Part 76

Multichannel video and cable television service.

47 CFR Part 100

Direct broadcast satellite service.

Federal Communications Commission.
Shirley S. Suggs,
Chief, Publications Group.

Rule Changes

Parts 1, 11, 21, 25, 73, 74, 76, and 100 of Title 47 of the Code of Federal Regulations are amended as follows:

PART 1—PRACTICE AND PROCEDURE

1. The authority citation for Part 1 continues to read as follows:

Authority: 15 U.S.C. 79 et seq.; 47 U.S.C. 151, 154(j), 155, 225, and 303(r).

§ 1.1106 [Amended]

2. Section 1.1106, paragraph (h), is amended by removing “76.12” and adding in its place “§ 76.1801”.

PART 11—EMERGENCY ALERT SYSTEM (EAS)

3. The authority citation for Part 11 continues to read as follows:

Authority: 47 U.S.C. 151, 154(j) and (o), 303(r), 544(g), and 606.

§ 11.35 [Amended]

4. Section 11.35, paragraph (a), is amended by removing “§ 76.305” and adding in its place “§§ 76.1700, 76.1708, and 76.1711”.

§ 11.54 [Amended]

5. Section 11.54, paragraph (b)(14), is amended by removing “§ 76.305” and adding in its place “§§ 76.1700, 76.1708, and 76.1711”.

PART 21—DOMESTIC PUBLIC FIXED RADIO SERVICES

6. The authority citation for Part 21 continues to read as follows:

Authority: Secs. 1, 2 , 4, 201-205, 208, 215, 218, 303, 307, 313, 403, 404, 410, 602, 48 Stat. as amended, 1064, 1066, 1070-1073, 1076, 1077, 1080, 1082, 1083, 1087, 1094, 1098, 1102; 47 U.S.C. 151, 154, 201-205, 208, 215, 303, 307, 313, 314, 403, 404, 602; 47 U.S.C. 552, 554.

§ 21.920 [Amended]

7. Section 21.920 is amended by removing “part 76, subpart E” each place it appears and adding in its place “part 76, subparts E and U”.

PART 25—SATELLITE COMMUNICATIONS

8. The authority citation for Part 25 continues to read as follows:

Authority: 47 U.S.C. 701-744. Interprets or applies sec. 303, 47 U.S.C. 303. 47 U.S.C. sections 154, 301, 302, 303, 307, 309, and 332, unless otherwise noted.

§ 25.601 [Amended]

9. Section 25.601 is amended by removing “part 76, subpart E” each time it appears and adding in its place “part 76, subparts E and U”.

PART 73—RADIO BROADCAST SERVICES

10. The authority citation for Part 73 continues to read as follows:

Authority: 47 U.S.C. 154, 303, 334, and 336.

§ 73.3526 [Amended]

11. Section 73.3526 is amended in paragraph (e)(15) by removing “§ 76.64” and adding in its place “§§ 76.64 and 76.1608”.

§ 73.3527 [Amended]

12. Section 73.3527 is amended in paragraph (e)(12) by removing “§ 76.56” and adding in its place “§§ 76.56, 76.1614, 76.1620, and 76.1709”.

PART 74—EXPERIMENTAL RADIO, AUXILIARY, SPECIAL BROADCAST AND OTHER PROGRAM DISTRIBUTIONAL SERVICES

13. The authority for Part 74 continues to read as follows:

Authority: 47 U.S.C. 154, 303, 307, and 554.

§ 74.996 [Amended]

14. Section 74.996 is amended by removing each time it appears “part 76, subpart E” and adding in its place “part 76, subparts E and U”.

PART 76—MULTICHANNEL VIDEO AND CABLE TELEVISION SERVICE

15. The authority citation for Part 76 continues to read as follows:

Authority: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572, 573.

16. Section 76.3 is revised to read as follows:

§ 76.3 Other pertinent rules.

Other pertinent provisions of the Commission's rules and regulations relating to Multichannel Video and the Cable Television Service are included in the following parts of this chapter:

Part 1—Practice and Procedure.

Part 11—Emergency Alert System (EAS).

Part 21—Domestic Public Radio Services (Other Than Maritime Mobile).

Part 63—Extension of Lines and Discontinuance of Service by Carriers.

Part 64—Miscellaneous Rules Relating to Common Carriers.

Part 78—Cable Television Relay Service.

Part 79—Closed Captioning of Video Programming.

Part 91—Industrial Radio Services.

§ 76.5 [Amended]

17. Section 76.5 is amended in paragraph (pp)(2) by removing “§ 76.302” and adding in its place “§ 76.1708.”

§ 76.12 [Removed]

18. Section 76.12 is removed.

§ 76.14 [Removed]

19. Section 76.14 is removed.

§ 76.17 [Removed]

20. Section 76.17 is removed.

§ 76.56 [Amended]

21. Section 76.56 is amended by removing paragraphs (d)(3) and (e), by redesignating paragraph (f) as paragraph (e), and by adding notes 1, 2, and 3 to read as follows:

§ 76.56 Signal carriage obligations.

* * * * *

Note 1 to § 76.56: Section 76.1620 provides notification requirements for a cable operator who authorizes subscribers to install additional receiver connections, but does not provide the subscriber with such connections, or with the equipment and materials for such connections.

Note 2 to § 76.56: Section 76.1614 provides response requirements for a cable operator who receives a written request to identify its must-carry signals.

Note 3 to § 76.56: Section 76.1709 provides recordkeeping requirements with regard to a cable operator's list of must-carry signals.

§ 76.58 [Removed]

22. Section 76.58 is removed.

§ 76.64 [Amended]

23. Section 76.64 is amended in paragraph (i) by removing “76.56(f)” and adding in its place “§ 76.56(e),” by removing paragraph (j), by redesignating paragraphs (k), (l), (m), and (n) as paragraphs (j), (k), (l), and (m), and by adding a Note to read as follows:

§ 76.64 Retransmission consent.

* * * * *

Note 1 to § 76.64: Section 76.1608 provides notification requirements for a cable system that changes its technical configuration in such a way as to integrate two formerly separate cable systems.

24. Section 76.95 is amended by revising paragraph (a) and by adding a Note to read as follows:

§ 76.95 Exceptions.

(a) The provisions of §§ 76.92-76.94 shall not apply to a cable system serving fewer than 1,000 subscribers.

Note to § 76.95 (a): Section 76.1609 contains notification requirements for a cable system that meets the 1,000 subscriber threshold of this section.

25. Section 76.156 is amended by revising paragraph (b) and by adding a note to read as follows:

§ 76.156 Exceptions.

* * * * *

(b) The provisions of §§ 76.151-76.155 shall not apply to a cable system serving fewer than 1,000 subscribers.

Note 1 to § 76.156: Section 76.1609 contains notification requirements for a cable system that meets the 1,000 subscriber threshold of this section.

26. Section 76.206 is amended by revising paragraph (b) introductory text to read as follows:

§ 76.206 Candidate rates.

* * * * *

(b) If a system permits a candidate to use its cablecast facilities, the system shall make all discount privileges offered to commercial advertisers, including the lowest unit charges for each class and length of time in the same time period and all corresponding discount privileges, available on equal terms to all candidates. This duty includes an affirmative duty to disclose to candidates information about rates, terms, conditions and all value-enhancing discount privileges offered to commercial advertisers, as provided in § 76.1611. Systems may use reasonable discretion in making the disclosure; provided, however, that the disclosure includes, at a minimum, the following information:

* * * * *

§ 76.207 [Removed]

27. Section 76.207 is removed.

28. Section 76.209 is revised to read as follows:

§ 76.209 Fairness doctrine; personal attacks; political editorials.

A cable television system operator engaging in origination cablecasting shall afford reasonable opportunity for the discussion of conflicting views on issues of public importance.

Note 1 to § 76.209: See public notice, “Applicability of the Fairness Doctrine in the Handling of Controversial Issues of Public Importance,” 29 FR 10415.

Note 2 to § 76.209: Section 76.1612 contains notice and other requirements for a cable television system operator when, during origination cablecasting of issues of public importance, an attack is made upon the honesty, character, integrity, or like personal qualities of an identified person or group.

Note 3 to § 76.209: Section 76.1613 contains notice and other requirements for a cable system operator where the system operator, in an editorial, endorses or opposes a legally qualified candidate or candidates.

§ 76.221 [Removed]

29. Section 76.221 is removed.

30. Section 76.225 is amended by removing paragraph (c) and adding a new note 3 to read as follows:

§ 76.225 Commercial limits in children's programs.

* * * * *

Note 3 to § 76.225: Section 76.1703 contains recordkeeping requirements for cable operators with regard to children's programming.

§§ 76.300 through 76.302 [Removed]

31. Sections 76.300 through 76.302 are removed.

§ 76.307 [Removed]

32. Section 76.307 is removed.

§ 76.309 [Amended]

33. Section 76.309 is amended by removing paragraphs (c)(3)(i) and (c)(3)(ii) and by redesignating paragraphs (c)(3)(iii) and (iv) as paragraphs (c)(3)(i) and (c)(3)(ii).

§ 76.400 [Removed]

34. Section 76.400 is removed.

§ 76.504 [Amended]

35. Section 76.504 is amended by removing paragraph (e), redesignating paragraphs (f) and (g) as paragraphs (e) and (f), and by adding a note 2 to § 76.504 to read as follows:

§ 76.504 Limits on carriage of vertically integrated programming.

* * * * *

Note 2 to § 76.504: Section 76.1710 contains recordkeeping requirements for cable operators with regard to attributable interests.

36. Section 76.601 is revised to read as follows:

§ 76.601 Performance tests.

(a) The operator of each cable television system shall be responsible for insuring that each such system is designed, installed, and operated in a manner that fully complies with the provisions of this subpart.

(b) The operator of each cable television system shall conduct complete performance tests of that system at least twice each calendar year (at intervals not to exceed seven months), unless otherwise noted below. The performance tests shall be directed at determining the extent to which the system complies with all the technical standards set forth in § 76.605(a) and shall be as follows:

(1) For cable television systems with 1000 or more subscribers but with 12,500 or fewer subscribers, proof-of-performance tests conducted pursuant to this section shall include measurements taken at six (6) widely separated points. However, within each cable system, one additional test point shall be added for every additional 12,500 subscribers or fraction thereof (e.g., 7 test points if 12,501 to 25,000 subscribers; 8 test points if 25,001 to 37,500 subscribers, etc.). In addition, for technically integrated portions of cable systems that are not mechanically continuous (i.e., employing microwave connections), at least one test point will be required for each portion of the cable system served by a technically integrated microwave hub. The proof-of-performance test points chosen shall be balanced to represent all geographic areas served by the cable system. At least one-third of the test points shall be representative of subscriber terminals most distant from the system input and from each microwave receiver (if microwave transmissions are employed), in terms of cable length. The measurements may be taken at convenient monitoring points in the cable network: Provided, that data shall be included to relate the measured performance of the system as would be viewed from a nearby subscriber terminal. An identification of the instruments, including the makes, model numbers, and the most recent date of calibration, a description of the procedures utilized, and a statement of the qualifications of the person performing the tests shall also be included.

(2) Proof-of-performance tests to determine the extent to which a cable television system complies with the standards set forth in § 76.605(a) (3), (4), and (5) shall be made on each of the NTSC or similar video channels of that system. Unless otherwise as noted, proof-of-performance tests for all other standards in § 76.605(a) shall be made on a minimum of four (4) channels plus one additional channel for every 100 MHz, or fraction thereof, of cable distribution system upper frequency limit (e.g., 5 channels for cable television systems with a cable distribution system upper frequency limit of 101 to 216 MHz; 6 channels for cable television systems with a cable distribution system upper frequency limit of 217-300 MHz; 7 channels for cable television systems with a cable distribution upper frequency limit to 300 to 400 MHz, etc.). The channels selected for testing must be representative of all the channels within the cable television system.

(3) The operator of each cable television system shall conduct semi-annual proof-of-performance tests of that system, to determine the extent to which the system complies with the technical standards set forth in § 76.605(a)(4) as follows. The visual signal level on each channel shall be measured and recorded, along with the date and time of the measurement, once every six hours (at intervals of not less than five hours or no more than seven hours after the previous measurement), to include the warmest and the coldest times, during a 24-hour period in January or February and in July or August.

(4) The operator of each cable television system shall conduct triennial proof-of-performance tests of its system to determine the extent to which the system complies with the technical standards set forth in § 76.605(a)(11).

(c) Successful completion of the performance tests required by paragraph (b) of this section does not relieve the system of the obligation to comply with all pertinent technical standards at all subscriber terminals. Additional tests, repeat tests, or tests involving specified subscriber terminals may be required by the Commission or the local franchiser to secure compliance with the technical standards.

(d) The provisions of paragraphs (b) and (c) of this section shall not apply to any cable television system having fewer than 1,000 subscribers: Provided, however, that any cable television system using any frequency spectrum other than that allocated to over-the-air television and FM broadcasting (as described in §§ 73.603 and 73.210 of this chapter) is required to conduct all tests, measurements and monitoring of signal leakage that are required by this subpart. A cable television system operator complying with the monitoring, logging and the leakage repair requirements of § 76.614, shall be considered to have met the requirements of this paragraph. However, the leakage log shall be retained for five years rather than the two years prescribed in § 76.1706.

Note 1 to § 76.601: Prior to requiring any additional testing pursuant to § 76.601(c), the local franchising authority shall notify the cable operator who will be allowed thirty days to come into compliance with any perceived signal quality problems which need to be corrected. The Commission may request cable operators to test their systems at any time.

Note 2 to § 76.601: Section 76.1717 contains recordkeeping requirements for each system operator in order to show compliance with the technical rules of this subpart.

Note 3 to § 76.601: Section 76.1704 contains recordkeeping requirements for proof of performance tests.

§ 76.605 [Amended]

37. Section 76.605, Note 5 is amended by removing § “76.601(c)(2)” each place it appears and adding in their place “§ 76.601(b)(2).”

§ 76.607 [Removed]

38. Section 76.607 is removed.

§ 76.610 [Amended]

39. Section 76.610 is amended by removing “76.615” and adding in its place “76.1803 and 76.1804”.

40. Section 76.614 is revised to read as follows:

§ 76.614 Cable television system regular monitoring.

Cable television operators transmitting carriers in the frequency bands 108-137 and 225-400 MHz shall provide for a program of regular monitoring for signal leakage by substantially covering the plant every three months. The incorporation of this monitoring program into the daily activities of existing service personnel in the discharge of their normal duties will generally cover all portions of the system and will therefore meet this requirement. Monitoring equipment and procedures utilized by a cable operator shall be adequate to detect a leakage source which produces a field strength in these bands of 20 uV/m or greater at a distance of 3 meters. During regular monitoring, any leakage source which produces a field strength of 20 uV/m or greater at a distance of 3 meters in the aeronautical radio frequency bands shall be noted and such leakage sources shall be repaired within a reasonable period of time.

Note 1 to § 76.614: Section 76.1706 contains signal leakage recordkeeping requirements applicable to cable operators.

§ 76.615 [Removed]

41. Section 76.615 is removed.

§ 76.620 [Amended]

42. Section 76.620, paragraph (a) is amended by removing § 76.615(b)(1) through (6)” and adding in its place “§§ 76.1804(a) through (f),” and by removing “§ 76.615(b)(7)” and adding in its place “§ 76.1804(g)”, and in paragraph (b) by removing “ § 76.615(b)(2)” and adding in its place “§ 76.1804(b)”.

§ 76.630 [Amended]

43. Section 76.630 is amended by removing paragraphs (c) and (d), by revising the note and by adding notes 2 and 3 to read as follows:

§ 76.630 Compatibility with consumer electronics equipment.

* * * * *

Note 1 to § 76.630: The provisions of paragraphs (a) and (b) of this section are applicable July 31, 1994, and June 30, 1994, respectively.

Note 2 to § 76.630: § 76.1621 contains certain requirements pertaining to a cable operator's offer to supply subscribers with special equipment that will enable the simultaneous reception of multiple signals.

Note 3 to § 76.630: § 76.1622 contains certain requirements pertaining to the provision of a consumer education program on compatibility matters to subscribers.

§ 76.900 [Removed]

44. Section 76.900 is removed.

§ 76.931 [Removed]

45. Section 76.931 is removed.

§ 76.932 [Removed]

46. Section 76.932 is removed.

§ 76.934 [Amended]

47. Section 76.934 is amended by removing paragraph (g)(2), by redesignating paragraphs (g)(3), (g)(4), and (g)(5) as newly designated paragraphs (g)(2), (g)(3) and (g)(4), and by adding a note to the end of paragraph (g), to read as follows:

§ 76.934 Small systems and small cable companies.

* * * * *

Note to paragraph (g) of § 76.934: Small systems owned by small cable companies must comply with the alternative rate agreement filing requirements of § 76.1805.

* * * * *

§ 76.958 [Removed]

48. Section 76.958 is removed.

§ 76.964 [Removed]

49. Section 76.964 is removed.

§ 76.980 [Amended]

50. Section 76.980 is amended by revising paragraph (d) and by adding a note to read as follows:

§ 76.980 Charges for customer changes.

* * * * *

(d) A cable operator may establish a higher charge for changes effected solely by coded entry on a computer terminal or by other similarly simple methods, subject to approval by the franchising authority, for a subscriber changing service tiers more than two times in a twelve month period, except for such changes ordered in response to a change in price or channel line-up.

* * * * *

Note 1 to § 76.980: Cable operators must also notify subscribers of potential charges for customer service changes, as provided in § 76.1604.

§ 76.987 [Amended]

51. Section 76.987 is amended in paragraph (e) by removing “76.964” and adding in its place “§ 76.1603,” and by removing paragraph (g), and by adding a note to read as follows:

§ 76.987 New product tiers.

* * * * *

Note 1 to § 76.987: Cable operators offering a NPT must comply with the notice requirement of § 76.1605.

52. Section 76.1404 is revised to read as follows:

§ 76.1404 Use of cable facilities by local exchange carriers.

(a) For purposes of § 76.505(d)(2), the Commission will determine whether use of a cable operator's facilities by a local exchange carrier is reasonably limited in scope and duration according to the procedures in paragraph (b) of this section.

(b) Based on the record created by § 76.1617 of the rules, the Commission shall determine whether the local exchange carrier's use of that part of the transmission facilities of a cable system extending from the last multi-use terminal to the premises of the end user is reasonably limited in scope and duration. In making this determination, the Commission will evaluate whether the proposed joint use of cable facilities promotes competition in both services and facilities, and encourages long-term investment in telecommunications infrastructure.

53. Section 76.1503 is amended by revising paragraph (c)(2)(ii) and by adding Note 3 to paragraph (c)(2)(ii) to read as follows:

§ 76.1503 Carriage of video programming providers on open video systems.

* * * * *

(c) * * *

(2) * * *

(ii) Subsequent changes in capacity or demand. An open video system operator must allocate open capacity, if any, at least once every three years, beginning three years from the date of service commencement. Open capacity shall be allocated in accordance with this section. Open capacity shall include all capacity that becomes available during the course of the three-year period, as well as capacity in excess of one-third of the system's activated channel capacity on which the operator of the open video system or its affiliate selects programming.

* * * * *

Note 3 to paragraph (c)(2)(ii): An open video system operator shall be required to comply with the recordkeeping requirements of § 76.1712.

* * * * *

54. Add subpart T to part 76 to read as follows:

Subpart T—Notices
Sec.
76.1601 Deletion or repositioning of broadcast signals.
76.1602 Customer service—general information.
76.1603 Customer service—rate and service changes.
76.1604 Charges for customer service changes.
76.1605 New product tier.
76.1606 Rate change while complaint pending.
76.1607 Principal headend.
76.1608 System technical integration requiring uniform election of must-carry or retransmission consent status.
76.1609 Non-duplication and syndicated exclusivity.
76.1610 Change of operational information.
76.1611 Political cable rates and classes of time.
76.1612 Personal attack.
76.1613 Political editorials.
76.1614 Identification of must-carry signals.
76.1615 Sponsorship identification.
76.1616 Contracts with local exchange carriers.
76.1617 Initial must-carry notice.
76.1618 Basic tier availability.
76.1619 Information on subscriber bills.
76.1620 Availability of signals.
76.1621 Equipment compatibility offer.
76.1622 Consumer education program on compatibility.

Subpart T—Notices

§ 76.1601 Deletion or repositioning of broadcast signals.

Effective April 2, 1993, a cable operator shall provide written notice to any broadcast television station at least 30 days prior to either deleting from carriage or repositioning that station. Such notification shall also be provided to subscribers of the cable system.

Note 1 to § 76.1601: No deletion or repositioning of a local commercial television station shall occur during a period in which major television ratings services measure the size of audiences of local television stations. For this purpose, such periods are the four national four-week ratings periods—generally including February, May, July and November—commonly known as audience sweeps.

§ 76.1602 Customer service—general information.

(a) A cable franchise authority may enforce the customer service standards set forth in paragraph (b) of this section against cable operators. The franchise authority must provide affected cable operators 90 days written notice of its intent to enforce standards.

(b) Effective July 1, 1993, the cable operator shall provide written information on each of the following areas at the time of installation of service, at least annually to all subscribers, and at any time upon request:

(1) Products and services offered;

(2) Prices and options for programming services and conditions of subscription to programming and other services;

(3) Installation and service maintenance policies;

(4) Instructions on how to use the cable service;

(5) Channel positions of programming carried on the system; and

(6) Billing and complaint procedures, including the address and telephone number of the local franchise authority's cable office.

(c) Subscribers shall be advised of the procedures for resolution of complaints about the quality of the television signal delivered by the cable system operator, including the address of the responsible officer of the local franchising authority.

§ 76.1603 Customer service—rate and service changes.

(a) A cable franchise authority may enforce the customer service standards set forth in paragraph (b) of this section against cable operators. The franchise authority must provide affected cable operators 90 days written notice of its intent to enforce standards.

(b) Customers will be notified of any changes in rates, programming services or channel positions as soon as possible in writing. Notice must be given to subscribers a minimum of thirty (30) days in advance of such changes if the change is within the control of the cable operator. In addition, the cable operator shall notify subscribers 30 days in advance of any significant changes in the other information required by § 76.1602.

(c) In addition to the requirements of paragraph (b) of this section regarding advance notification to customers of any changes in rates, programming services or channel positions, cable systems shall give 30 days written notice to both subscribers and local franchising authorities before implementing any rate or service change. Such notice shall state the precise amount of any rate change and briefly explain in readily understandable fashion the cause of the rate change (e.g., inflation, changes in external costs or the addition/deletion of channels). When the change involves the addition or deletion of channels, each channel added or deleted must be separately identified.

(d) A cable operator shall provide written notice to a subscriber of any increase in the price to be charged for the basic service tier or associated equipment at least 30 days before any proposed increase is effective. The notice should include the name and address of the local franchising authority.

(e) To the extent the operator is required to provide notice of service and rate changes to subscribers, the operator may provide such notice using any reasonable written means at its sole discretion.

(f) Notwithstanding any other provision of part 76 of this chapter, a cable operator shall not be required to provide prior notice of any rate change that is the result of a regulatory fee, franchise fee, or any other fee, tax, assessment, or charge of any kind imposed by any Federal agency, State, or franchising authority on the transaction between the operator and the subscriber.

Note 1 to § 76.1603: Section 624(h) of the Communications Act, 47 U.S.C. 544(h), contains additional notification requirements which a franchising authority may enforce.

Note 2 to § 76.1603: Section 624(d)(3) of the Communications Act, 47 U.S.C. 544(d)(3), contains additional notification provisions pertaining to cable operators who offer a premium channel without charge to cable subscribers who do not subscribe to such premium channel.

Note 3 to § 76.1603: Section 631 of the Communications Act, 47 U.S.C. 551, contains additional notification requirements pertaining to the protection of subscriber privacy.

§ 76.1604 Charges for customer service changes.

If a cable operator establishes a higher charge for changes effected solely by coded entry on a computer terminal or by other similarly simple methods, as provided in § 76.980(d), the cable system must notify all subscribers in writing that they may be subject to such a charge for changing service tiers more than the specified number of times in any 12 month period.

§ 76.1605 New product tier.

(a) Within 30 days of the offering of an NPT, operators shall file with the Commission a copy of the new rate card that contains the following information on their BSTs, CPSTs and NPTs:

(1) The names of the programming services contained on each tier; and

(2) The price of each tier.

(b) Operators also must file with the Commission, copies of notifications that were sent to subscribers regarding the initial offering of NPTs. After this initial filing, cable operators must file updated rate cards and copies of customer notifications with the Commission within 30 days of rate or service changes affecting the NPT.

§ 76.1606 Rate change while complaint pending.

A regulated cable operator that proposes to change any rate while a cable service tier complaint is pending before the Commission shall provide the Commission at least 30 days notice of the proposed change.

§ 76.1607 Principal headend.

A cable operator shall provide written notice by certified mail to all stations carried on its system pursuant to the must-carry rules at least 60 days prior to any change in the designation of its principal headend.

§ 76.1608 System technical integration requiring uniform election of must-carry or retransmission consent status.

A cable system that changes its technical configuration in such a way as to integrate two formerly separate cable systems must give 90 days notice of its intention to do so to any television broadcast stations that have elected must-carry status with respect to one system and retransmission consent status with respect to the other. If the system and the station do not agree on a uniform election 45 days prior to integration, the cable system may require the station to make such a uniform election 30 days prior to integration.

§ 76.1609 Non-duplication and syndicated exclusivity.

Within 60 days following the provision of service to 1,000 subscribers, the operator of each such system shall file a notice to that effect with the Commission, and serve a copy of that notice on every television station that would be entitled to exercise network non-duplication protection or syndicated exclusivity protection against it.

76.1610 Change of operational information.

Within 30 days following a change of cable television system operator, and/or change of the operator's mail address, and/or change in the operational status of a cable television system, the operator shall inform the Commission in writing of the following, as appropriate:

(a) The legal name of the operator and whether the operator is an individual, private association, partnership or corporation. See § 76.5(cc). If the operator is a partnership, the legal name of the partner responsible for communications with the Commission shall be supplied;

(b) The assumed name (if any) used for doing business in each community;

(c) The new mail address, including zip code, to which all communications are to be directed;

(d) The nature of the operational status change (e.g., became operational on [year] [month], exceeded 49 subscribers, exceeded 499 subscribers, operation terminated temporarily, operation terminated permanently);

(e) The names and FCC identifiers (e.g., CA 0001) of the system communities affected.

Note 1 to § 76.1610: FCC system community identifiers are routinely assigned upon registration. They have been assigned to all reported system communities based on previous Form 325 data. If a system community in operation prior to March 31, 1972, has not previously been assigned a system community identifier, the operator shall provide the following information in lieu of the identifier: Community Name, Community Type (i.e., incorporated town, unincorporated settlement, etc.), County Name, State, Operator Legal Name, Operator Assumed Name for Doing Business in the Community, Operator Mail Address, and Year and Month service was first provided by the physical system.

§ 76.1611 Political cable rates and classes of time.

If a system permits a candidate to use its cablecast facilities, the system shall disclose to all candidates information about rates, terms, conditions and all value-enhancing discount privileges offered to commercial advertisers. Systems may use reasonable discretion in making the disclosure; provided, however, that the disclosure includes, at a minimum, the following information:

(a) A description and definition of each class of time available to commercial advertisers sufficiently complete enough to allow candidates to identify and understand what specific attributes differentiate each class;

(b) A description of the lowest unit charge and related privileges (such as priorities against preemption and make goods prior to specific deadlines) for each class of time offered to commercial advertisers;

(c) A description of the system's method of selling preemptible time based upon advertiser demand, commonly known as the “current selling level,” with the stipulation that candidates will be able to purchase at these demand-generated rates in the same manner as commercial advertisers;

(d) An approximation of the likelihood of preemption for each kind of preemptible time; and

(e) An explanation of the system's sales practices, if any, that are based on audience delivery, with the stipulation that candidates will be able to purchase this kind of time, if available to commercial advertisers.

§ 76.1612 Personal attack.

(a) When, during origination cablecasting of issues of public importance, an attack is made upon the honesty, character, integrity, or like personal qualities of an identified person or group, the cable television system operator shall, within a reasonable time and in no event later than one (1) week after the attack, transmit to the person or group attacked:

(1) Notification of the date, time, and identification of the cablecast;

(2) A script or tape (or an accurate summary if a script or tape is not available) of the attack; and

(3) An offer of a reasonable opportunity to respond over the system's facilities.

(b) The provisions of paragraph (a) of this section shall not apply to cablecast material which falls within one or more of the following categories:

(1) Personal attacks on foreign groups or foreign public figures;

(2) Personal attacks occurring during uses by legally qualified candidates;

(3) Personal attacks made during cablecasts not included in paragraph (a)(2) of this section and made by legally qualified candidates, their authorized spokespersons or those associated with them in the campaign, on other such candidates, their authorized spokespersons or persons associated with the candidates in the campaign; and

(4) Bona fide newscasts, bona fide news interviews, and on-the-spot coverage of bona fide news events (including commentary or analysis contained in the foregoing programs, but, the provisions of paragraph (a) of this section shall be applicable to editorials of the cable television system operator).

§ 76.1613 Political editorials.

Where a cable television system operator, in an editorial endorses or opposes a legally qualified candidate or candidates, the system operator shall, within 24 hours of the editorial, transmit the following to the other qualified candidate or candidates for the same office or the candidate opposed in the editorial:

(a) Notification of the date, time, and channel of the editorial;

(b) A script or tape of the editorial; and

(c) An offer of a reasonable opportunity for a candidate or a spokesman of the candidate to respond over the system's facilities: Provided, however, that where such editorials are cablecast within 72 hours prior to the day of the election, the system operator shall comply with the provisions of this paragraph sufficiently far in advance of the broadcast to enable the candidate or candidates to have a reasonable opportunity to prepare a response and to present it in a timely fashion.

§ 76.1614 Identification of must-carry signals.

A cable operator shall respond in writing within 30 days to any written request by any person for the identification of the signals carried on its system in fulfillment of the must-carry requirements of § 76.56.

§ 76.1615 Sponsorship identification.

(a) When a cable television system operator engaged in origination cablecasting presents any matter for which money, service, or other valuable consideration is either directly or indirectly paid or promised to, or charged or accepted by such cable television system operator, the cable television system operator, at the time of the cablecast, shall announce that such matter is sponsored, paid for, or furnished, either in whole or in part, and by whom or on whose behalf such consideration was supplied: Provided, however, that “service or other valuable consideration” shall not include any service or property furnished either without or at a nominal charge for use on, or in connection with, a cablecast unless it is so furnished in consideration for an identification of any person, product, service, trademark, or brand name beyond an identification reasonably related to the use of such service or property on the cablecast. For the purposes of this section, the term “sponsored” shall be deemed to have the same meaning as “paid for.” In the case of any political advertisement cablecast under this paragraph that concerns candidates for public office, the sponsor shall be identified with letters equal to or greater than four (4) percent of the vertical picture height that air for not less than four (4) seconds.

(b) Each cable television system operator engaged in origination cablecasting shall exercise reasonable diligence to obtain from employees, and from other persons with whom the system operator deals directly in connection with any matter for cablecasting, information to enable such system operator to make the announcement required by this section.

(c) In the case of any political origination cablecast matter or any origination cablecast matter involving the discussion of public controversial issues for which any film, record, transcription, talent, script, or other material or service of any kind is furnished, either directly or indirectly, to a cable television system operator as an inducement for cablecasting such matter, an announcement shall be made both at the beginning and conclusion of such cablecast on which such material or service is used that such film, record, transcription, talent, script, or other material or service has been furnished to such cable television system operator in connection with the transmission of such cablecast matter: Provided, however, that in the case of any cablecast of 5 minutes' duration or less, only one such announcement need be made either at the beginning or conclusion of the cablecast.

(d) The announcement required by this section shall, in addition to stating the fact that the origination cablecasting matter was sponsored, paid for or furnished, fully and fairly disclose the true identity of the person or persons, or corporation, committee, association or other unincorporated group, or other entity by whom or on whose behalf such payment is made or promised, or from whom or on whose behalf such services or other valuable consideration is received, or by whom the material or services referred to in paragraph (c) of this section are furnished. Where an agent or other person or entity contracts or otherwise makes arrangements with a cable television system operator on behalf of another, and such fact is known or by the exercise of reasonable diligence, as specified in paragraph (b) of this section, could be known to the system operator, the announcement shall disclose the identity of the person or persons or entity on whose behalf such agent is acting instead of the name of such agent.

(e) In the case of an origination cablecast advertising commercial products or services, an announcement stating the sponsor's corporate or trade name, or the name of the sponsor's product, when it is clear that the mention of the name of the product constitutes a sponsorship identification, shall be deemed sufficient for the purposes of this section and only one such announcement need be made at any time during the course of the cablecast.

(f) The announcement otherwise required by this section is waived with respect to the origination cablecast of “want ad” or classified advertisements sponsored by an individual. The waiver granted in this paragraph shall not extend to a classified advertisement or want ad sponsorship by any form of business enterprise, corporate or otherwise.

(g) The announcements required by this section are waived with respect to feature motion picture film produced initially and primarily for theatre exhibition.

Note to § 76.1615(g): The waiver heretofore granted by the Commission in its Report and Order, adopted November 16, 1960 (FCC 60-1369; 40 FCC 95), continues to apply to programs filmed or recorded on or before June 20, 1963, when § 73.654(e) of this chapter, the predecessor television rule, went into effect.

(h) Commission interpretations in connection with the provisions of the sponsorship identification rules for the broadcasting services are contained in the Commission's Public Notice, entitled “Applicability of Sponsorship Identification Rules,” dated May 6, 1963 (40 FCC 141), as modified by Public Notice, dated April 21, 1975 (FCC 75-418). Further interpretations are printed in full in various volumes of the Federal Communications Commission Reports. The interpretations made for the broadcasting services are equally applicable to origination cablecasting.

§ 76.1616 Contracts with local exchange carriers.

Within 10 days of final execution of a contract permitting a local exchange carrier to use that part of the transmission facilities of a cable system extending from the last multi-user terminal to the premises of the end use, the parties shall submit a copy of such contract, along with an explanation of how such contract is reasonably limited in scope and duration, to the Commission for review. The parties shall serve a copy of this submission on the local franchising authority, along with a notice of the local franchising authority's right to file comments with the Commission consistent with § 76.7.

§ 76.1617 Initial must-carry notice.

(a) Within 60 days of activation of a cable system, a cable operator must notify all qualified NCE stations of its designated principal headend by certified mail.

(b) Within 60 days of activation of a cable system, a cable operator must notify all local commercial and NCE stations that may not be entitled to carriage because they either:

(1) Fail to meet the standards for delivery of a good quality signal to the cable system's principal headend, or

(2) May cause an increased copyright liability to the cable system.

(c) Within 60 days of activation of a cable system, a cable operator must send by certified mail a copy of a list of all broadcast television stations carried by its system and their channel positions to all local commercial and noncommercial television stations, including those not designated as must-carry stations and those not carried on the system.

§ 76.1618 Basic tier availability.

A cable operator shall provide written notification to subscribers of the availability of basic tier service to new subscribers at the time of installation. This notification shall include the following information:

(a) That basic tier service is available;

(b) The cost per month for basic tier service;

(c) A list of all services included in the basic service tier.

§ 76.1619 Information on subscriber bills.

(a) Effective July 1, 1993, bills must be clear, concise and understandable. Bills must be fully itemized, with itemizations including, but not limited to, basic and premium service charges and equipment charges. Bills will also clearly delineate all activity during the billing period, including optional charges, rebates and credits.

(b) In case of a billing dispute, the cable operator must respond to a written complaint from a subscriber within 30 days.

(c) A cable franchise authority may enforce the customer service standards set forth in this section against cable operators. The franchise authority must provide affected cable operators 90 days written notice of its intent to enforce standards.

§ 76.1620 Availability of signals.

If a cable operator authorizes subscribers to install additional receiver connections, but does not provide the subscriber with such connections, or with the equipment and materials for such connections, the operator shall notify such subscribers of all broadcast stations carried on the cable system which cannot be viewed via cable without a converter box and shall offer to sell or lease such a converter box to such subscribers. Such notification must be provided by June 2, 1993, and annually thereafter and to each new subscriber upon initial installation. The notice, which may be included in routine billing statements, shall identify the signals that are unavailable without an additional connection, the manner for obtaining such additional connection and instructions for installation.

§ 76.1621 Equipment compatibility offer.

Cable system operators that use scrambling, encryption or similar technologies in conjunction with cable system terminal devices, as defined in § 15.3(e) of this chapter, that may affect subscribers' reception of signals shall offer to supply each subscriber with special equipment that will enable the simultaneous reception of multiple signals. The equipment offered shall include a single terminal device with dual descramblers/decoders and/or timers and bypass switches. Other equipment, such as two independent set-top terminal devices may be offered at the same time that the single terminal device with dual tuners/descramblers is offered. For purposes of this rule, two set-top devices linked by a control system that provides functionality equivalent to that of a single device with dual descramblers is considered to be the same as a terminal device with dual descramblers/decoders.

(a) The offer of special equipment shall be made to new subscribers at the time they subscribe and to all subscribers at least once each year.

(b) Such special equipment shall, at a minimum, have the capability:

(1) To allow simultaneous reception of any two scrambled or encrypted signals and to provide for tuning to alternative channels on a pre-programmed schedule; and

(2) To allow direct reception of all other signals that do not need to be processed through descrambling or decryption circuitry (this capability can generally be provided through a separate by-pass switch or through internal by-pass circuitry in a cable system terminal device).

(c) Cable system operators shall determine the specific equipment needed by individual subscribers on a case-by-case basis, in consultation with the subscriber. Cable system operators are required to make a good faith effort to provide subscribers with the amount and types of special equipment needed to resolve their individual compatibility problems.

(d) Cable operators shall provide such equipment at the request of individual subscribers and may charge for purchase or lease of the equipment and its installation in accordance with the provisions of the rate regulation rules for customer premises equipment used to receive the basic service tier, as set forth in § 76.923. Notwithstanding the required annual offering, cable operators shall respond to subscriber requests for special equipment for reception of multiple signals that are made at any time.

§ 76.1622 Consumer education program on compatibility.

Cable system operators shall provide a consumer education program on compatibility matters to their subscribers in writing, as follows:

(a) The consumer information program shall be provided to subscribers at the time they first subscribe and at least once a year thereafter. Cable operators may choose the time and means by which they comply with the annual consumer information requirement. This requirement may be satisfied by a once-a-year mailing to all subscribers. The information may be included in one of the cable system's regular subscriber billings.

(b) The consumer information program shall include the following information:

(1) Cable system operators shall inform their subscribers that some models of TV receivers and videocassette recorders may not be able to receive all of the channels offered by the cable system when connected directly to the cable system. In conjunction with this information, cable system operators shall briefly explain, the types of channel compatibility problems that could occur if subscribers connected their equipment directly to the cable system and offer suggestions for resolving those problems. Such suggestions could include, for example, the use of a cable system terminal device such as a set-top channel converter. Cable system operators shall also indicate that channel compatibility problems associated with reception of programming that is not scrambled or encrypted programming could be resolved through use of simple converter devices without descrambling or decryption capabilities that can be obtained from either the cable system or a third party retail vendor.

(2) In cases where service is received through a cable system terminal device, cable system operators shall indicate that subscribers may not be able to use special features and functions of their TV receivers and videocassette recorders, including features that allow the subscriber to: view a program on one channel while simultaneously recording a program on another channel; record two or more consecutive programs that appear on different channels; and, use advanced picture generation and display features such as “Picture-in-Picture,” channel review and other functions that necessitate channel selection by the consumer device.

(3) In cases where cable system operators offer remote control capability with cable system terminal devices and other customer premises equipment that is provided to subscribers, they shall advise their subscribers that remote control units that are compatible with that equipment may be obtained from other sources, such as retail outlets. Cable system operators shall also provide a representative list of the models of remote control units currently available from retailers that are compatible with the customer premises equipment they employ. Cable system operators are required to make a good faith effort in compiling this list and will not be liable for inadvertent omissions. This list shall be current as of no more than six months before the date the consumer education program is distributed to subscribers. Cable operators are also required to encourage subscribers to contact the cable operator to inquire about whether a particular remote control unit the subscriber might be considering for purchase would be compatible with the subscriber's customer premises equipment.

55. Add subpart U to part 76 to read as follows:

Subpart U—Documents to be Maintained for Inspection
Sec.
76.1700 Records to be maintained locally by cable system operators.
76.1701 Political file.
76.1702 Equal employment opportunity.
76.1703 Commercial matter on children's programs.
76.1704 Proof of performance test data.
76.1705 Performance tests (channels delivered).
76.1706 Signal leakage logs and repair records.
76.1707 Leased access.
76.1708 Principal headend.
76.1709 Availability of signals.
76.1710 Operator interests in video programming.
76.1711 Emergency alert system (EAS) tests and activation.
76.1712 Open video system (OVS) requests for carriage.
76.1713 Complaint resolution.
76.1714 FCC rules and regulations.
76.1715 Sponsorship identification.
76.1716 Subscriber records and public inspection file.
76.1717 Compliance with technical standards.

Subpart U—Documents to be Maintained for Inspection

§ 76.1700 Records to be maintained locally by cable system operators.

(a) Recordkeeping requirements. The operator of every cable television system having fewer than 1,000 subscribers is exempt from the public inspection requirements contained in §§ 76.1701 (political file); 76.1715 (sponsorship identifications); 76.1702 (equal employment opportunity); 76.1703 (commercial records for children's programming); 76.1704 (proof-of-performance test data); and 76.1706 (signal leakage logs and repair records). The operator of every cable television system having 1000 or more subscribers but fewer than 5000 subscribers shall, upon request, provide the information required by §§ 76.1715 (sponsorship identifications); 76.1702 (equal employment opportunity); 76.1703 (commercial records for children's programming); 76.1704 (proof-of-performance test data); and 76.1706 (signal leakage logs and repair records) but shall maintain for public inspection a file containing a copy of all records required to be kept by § 76.1701 (political file). The operator of every cable television system having 5000 or more subscribers shall maintain for public inspection a file containing a copy of all records which are required to be kept by §§ 76.1701 (political file); 76.1715 (sponsorship identifications); 76.1702 (equal employment opportunity); 76.1703 (commercial records for children's programming); 76.1704 (proof-of-performance test data); and 76.1706 (signal leakage logs and repair records).

(1) A record shall be kept of each test and activation of the Emergency Alert System (EAS) procedures pursuant to the requirement of part 11 of this chapter and the EAS Operating Handbook. These records shall be kept for three years.

(2) [Reserved]

(b) Location of records. The public inspection file shall be maintained at the office which the system operator maintains for the ordinary collection of subscriber charges, resolution of subscriber complaints, and other business or at any accessible place in the community served by the system unit(s) (such as a public registry for documents or an attorney's office). The public inspection file shall be available for public inspection at any time during regular business hours.

(c) All or part of the public inspection file may be maintained in a computer database, as long as a computer terminal is made available, at the location of the file, to members of the public who wish to review the file.

(d) The records specified in paragraph (a) of this section shall be retained for the period specified in §§ 76.1701, 76.1702, 76.1704(a), and 76.1706, respectively.

(e) Reproduction of records. Copies of any material in the public inspection file shall be available for machine reproduction upon request made in person, provided the requesting party shall pay the reasonable cost of reproduction. Requests for machine copies shall be fulfilled at a location specified by the system operator, within a reasonable period of time, which in no event shall be longer than seven days. The system operator is not required to honor requests made by mail but may do so if it chooses.

§ 76.1701 Political file.

(a) Every cable television system shall keep and permit public inspection of a complete and orderly record (political file) of all requests for cablecast time made by or on behalf of a candidate for public office, together with an appropriate notation showing the disposition made by the system of such requests, and the charges made, if any, if the request is granted. The “disposition” includes the schedule of time purchased, when spots actually aired, the rates charged, and the classes of time purchased.

(b) When free time is provided for use by or on behalf of candidates, a record of the free time provided shall be placed in the political file.

(c) All records required by this paragraph shall be placed in the political file as soon as possible and shall be retained for a period of two years. As soon as possible means immediately absent unusual circumstances.

(d) Where origination cablecasting material is a political matter or matter involving the discussion of a controversial issue of public importance and a corporation, committee, association or other unincorporated group, or other entity is paying for or furnishing the matter, the system operator shall, in addition to making the announcement required by § 76.1616(a), require that a list of the chief executive officers or members of the executive committee or of the board of directors of the corporation, committee, association or other unincorporated group, or other entity shall be made available for public inspection at the local office of the system. Such lists shall be kept and made available for a period of two years.

§ 76.1702 Equal employment opportunity.

Every employment unit shall maintain for public inspection a file containing copies of all annual employment reports filed pursuant to § 76.77. Each document shall be retained for a period of five years. The file shall be maintained at the central office and at every location with more than five full-time employees. A headquarters employment unit file and a file containing a consolidated set of all documents pertaining to the other employment units of a multiple cable operator shall be maintained at the central office of the headquarters employment unit. The cable entity shall provide reasonable accommodations at these locations for undisturbed inspection of his equal employment opportunity records by members of the public during regular business hours.

§ 76.1703 Commercial records on children's programs.

Cable operators airing children's programming must maintain records sufficient to verify compliance with § 76.225 and make such records available to the public. Such records must be maintained for a period sufficient to cover the limitations period specified in 47 U.S.C. 503(b)(6)(B).

§ 76.1704 Proof-of-performance test data.

(a) The proof of performance tests required by § 76.601 shall be maintained on file at the operator's local business office for at least five years. The test data shall be made available for inspection by the Commission or the local franchiser, upon request.

(b) The provisions of paragraph (a) of this section shall not apply to any cable television system having fewer than 1,000 subscribers, subject to the requirements of § 76.601(d).

Note to § 76.1704: If a signal leakage log is being used to meet proof of performance test recordkeeping requirements in accordance with § 76.601, such a log must be retained for the period specified in § 76.601(d).

§ 76.1705 Performance tests (channels delivered).

The operator of each cable television system shall maintain at its local office a current listing of the cable television channels which that system delivers to its subscribers.

§ 76.1706 Signal leakage logs and repair records.

Cable operators shall maintain a log showing the date and location of each leakage source identified pursuant to § 76.614, the date on which the leakage was repaired, and the probable cause of the leakage. The log shall be kept on file for a period of two years and shall be made available to authorized representatives of the Commission upon request.

Note to § 76.1705: If a signal leakage log is being used to meet proof of performance test recordkeeping requirements in accordance with § 76.601, such a log must be retained for the period specified in § 76.601(d).

§ 76.1707 Leased access.

If a cable operator adopts and enforces a written policy regarding indecent leased access programming pursuant to § 76.701, such a policy will be considered published pursuant to that rule by inclusion of the written policy in the operator's public inspection file.

§ 76.1708 Principal headend.

(a) The operator of every cable television system shall maintain for public inspection the designation and location of its principal headend. If an operator changes the designation of its principal headend, that new designation must be included in its public file.

(b) Such records must be maintained in accordance with the provisions of § 76.1700(b).

§ 76.1709 Availability of signals.

(a) Effective June 17, 1993, the operator of every cable television system shall maintain for public inspection a file containing a list of all broadcast television stations carried by its system in fulfillment of the must-carry requirements pursuant to § 76.56. Such list shall include the call sign, community of license, broadcast channel number, cable channel number, and in the case of a noncommercial educational broadcast station, whether that station was carried by the cable system on March 29, 1990.

(b) Such records must be maintained in accordance with the provisions of § 76.1700(b).

(c) A cable operator shall respond in writing within 30 days to any written request by any person for the identification of the signals carried on its system in fulfillment of the requirements of § 76.56.

§ 76.1710 Operator interests in video programming.

(a) Cable operators are required to maintain records in their public file for a period of three years regarding the nature and extent of their attributable interests in all video programming services as well as information regarding their carriage of such vertically integrated video programming services on cable systems in which they have an attributable interest. These records must be made available to local franchise authorities, the Commission, or members of the public on reasonable notice and during regular business hours.

(b) “Attributable interest” shall be defined by reference to the criteria set forth in the Notes to § 76.501.

§ 76.1711 Emergency alert system (EAS) tests and activation.

Every cable system of 1,000 or more subscribers shall keep a record of each test and activation of the Emergency Alert System (EAS) procedures pursuant to the requirement of part 11 of this chapter and the EAS Operating Handbook. These records shall be kept for three years.

§ 76.1712 Open video system (OVS) requests for carriage.

An open video system operator shall maintain a file of qualified video programming providers who have requested carriage or additional carriage since the previous allocation of capacity. Information regarding how a video programming provider should apply for carriage must be made available upon request.

Note 1 to § 76.1712: An open video system operator will not be required to comply with the regulations contained in this section if there is no open capacity to be allocated at the end of the three year period described in § 76.1503(c)(2)(ii).

§ 76.1713 Complaint resolution.

Cable system operators shall establish a process for resolving complaints from subscribers about the quality of the television signal delivered. Aggregate data based upon these complaints shall be made available for inspection by the Commission and franchising authorities, upon request. These records shall be maintained for at least a one-year period.

Note 1 to § 76.1713: Prior to being referred to the Commission, complaints from subscribers about the quality of the television signal delivered must be referred to the local franchising authority and the cable system operator.

§ 76.1714 FCC rules and regulations.

(a) The operator of a cable television system shall have a current copy of part 76 and, if subject to the Emergency Alert System (EAS) rules contained in part 11 of this chapter, an EAS Operating Handbook, and is expected to be familiar with the rules governing cable television systems and the EAS. Copies of the Commission's rules may be obtained from the Superintendent of Documents, Government Printing Office, Washington, D.C. 20402, at nominal cost. Copies of the EAS Operating Handbook may be obtained from the Commission's EAS staff, in Washington, DC.

(b) The provisions of paragraph (a) of this section are not applicable to any cable television system serving fewer than 1000 subscribers.

(c) The licensee of a cable television relay station (CARS) shall have a current copy of part 78 of this chapter, and, in cases where aeronautical obstruction markings of antennas is required, part 17 of this chapter shall be available for use by the operator in charge. Both the licensee and the operator or operators responsible for the proper operation of the station are expected to be familiar with the rules governing cable television relay stations. Copies of the Commission's rules may be obtained from the Superintendent of Documents, Government Printing Office, Washington, D.C. 20402, at nominal cost.

§ 76.1715 Sponsorship identification.

Whenever sponsorship announcements are omitted pursuant to § 76.1615(f) of subpart T, the cable television system operator shall observe the following conditions:

(a) Maintain a list showing the name, address, and (where available) the telephone number of each advertiser;

(b) Make this list available to members of the public who have a legitimate interest in obtaining the information contained in the list.

§ 76.1716 Subscriber records and public inspection file.

The operator of a cable television system shall make the system, its public inspection file, and its records of subscribers available for inspection upon request by an authorized representative of the Commission at any reasonable hour.

§ 76.1717 Compliance with technical standards.

Each system operator shall be prepared to show, on request by an authorized representative of the Commission or the local franchising authority, that the system does, in fact, comply with the technical standards rules in part 76, subpart K.

56. Add subpart V to part 76 to read as follows:

Subpart V—Reports and Filings
Sec.
§ 76.1800 Additional reports and filings.
§ 76.1801 Registration statement.
§ 76.1802 Equal employment opportunity.
§ 76.1803 Aeronautical frequencies: signal list.
§ 76.1804 Aeronautical frequencies: leakage monitoring (CLI).
§ 76.1805 Alternative rate regulation agreements.

Subpart V—Reports and Filings

§ 76.1800 Additional reports and filings.

In addition to the reports and filings required by this subpart, cable operators must provide all notifications which are required by § 1.1155 of this chapter (annual regulatory user fees). In addition, all cable systems subject to rate regulation must file FCC rate forms pursuant to the Commission's rate rules contained in subparts N and R of this part.

Note 1 to § 76.1800: Cable operators are required by the Copyright Act to make semi-annual filings of Statements of Account with the Licensing Division of the Copyright Office, Library of Congress, Washington, D.C. 20557.

Note 2 to § 76.1800: The Commission may require certain financial information to be submitted pursuant to Section 623(g) of the Communications Act, 47 U.S.C. 543(g).

§ 76.1801 Registration statement.

A system community unit shall be authorized to commence operation only after filing with the Commission the following information:

(a)(1) The legal name of the operator, entity identification or social security number, and whether the operator is an individual, private association, partnership, or corporation. If the operator is a partnership, the legal name of the partner responsible for communications with the Commission shall be supplied:

(2) The assumed name (if any) used for doing business in the community;

(3) The mail address, including zip code, and the telephone number to which all communications are to be directed;

(4) The date the system provided service to 50 subscribers;

(5) The name of the community or area served and the county in which it is located; and

(6) The television broadcast signals to be carried which previously have not been certified or registered.

(b) Registration statements shall be personally signed by the operator; by one of the partners, if the operator is a partnership; by an officer, if the operator is a corporation; by a member who is an officer, if the operator is an unincorporated association; or by any duly authorized employee of the operator.

(c) Registration statements may be signed by the operator's attorney in case of the operator's physical disability or of his absence from the United States. The attorney shall in that event separately set forth the reasons why the registration statement was signed by the operator. In addition, if any matter is stated on the basis of the attorney's belief only (rather than his knowledge), he shall separately set forth his reasons for believing that such statements are true.

(d) The Commission will give public notice of the filing of registration statements.

§ 76.1802 Equal employment opportunity.

Each employment unit with six or more full-time employees shall file an annual employment report (FCC Form 395A) with the Commission on or before September 30 of each year, in accordance with § 76.77.

§ 76.1803 Aeronautical frequencies: signal list.

The operator of a cable system shall notify the Commission annually of all signals carried in the aeronautical radio frequency bands (108-137 and 225-400 MHz), noting the type of information carried by the signal (television picture, aural, pilot carrier, or system control, etc.). The timely filing of FCC Form 325, Schedule 2, will meet this requirement.

§ 76.1804 Aeronautical frequencies: leakage monitoring (CLI).

The operator of a cable system shall notify the Commission before transmitting any carrier or other signal component with an average power level across a 25 kHz bandwidth in any 160 microsecond time period equal to or greater than 10−4 watts at any point in the cable distribution system on any new frequency or frequencies in the aeronautical radio frequency bands (108-137 and 225-400 MHz). Such notification shall include:

(a) Legal name and local address of the cable television operator;

(b) The names and FCC identifiers (e.g., CA0001) of the system communities affected;

(c) The names and telephone numbers of local system officials who are responsible for compliance with §§ 76.610 through 76.616 and § 76.1803;

(d) Carrier and subcarrier frequencies and tolerance, types of modulation and the maximum average power levels of all carriers and subcarriers occurring at any location in the cable distribution system;

(e) The geographical coordinates of a point near the center of the cable system, together with the distance (in kilometers) from the designated point to the most remote point of the cable plant, existing or planned, which defines a circle enclosing the entire cable plant;

(f) A description of the routine monitoring procedure to be used; and

(g) For cable operators subject to § 76.611, the cumulative signal leakage index derived under § 76.611(a)(1) or the results of airspace measurements derived under § 76.611(a)(2), including a description of the method by which compliance with basic signal leakage criteria is achieved and the method of calibrating the measurement equipment. The information described in this paragraph (g) shall be provided to the Commission prior to July 1, 1990 and each calendar year thereafter.

Note to § 76.1804(g): Timely filing of FCC Form 320, “Basic Signal Leakage Performance Report,” will satisfy the annual filing requirement of paragraph (g).

§ 76.1805 Alternative rate regulation agreements.

Small systems owned by small cable companies must file with the Commission a copy of any operative alternative rate regulation agreement entered into with a local franchising authority pursuant to § 76.934(g), within 30 days after its effective date.

PART 100—DIRECT BROADCAST SATELLITE SERVICE

57. The authority for Part 100 continues to read as follows:

Authority: 47 U.S.C. 154, 303, 309, and 554.

§ 100.51 [Amended]

58. Section 100.51 of paragraph (e) is amended by removing “part 76, subpart E” and adding in its place “part 76, subparts E and U.”

[FR Doc. 00-22470 Filed 9-1-00; 8:45 am]

BILLING CODE 6712-01-U